DEPARTMENT OF HOUSING AND URBAN DEVELOPMENT

[Docket No. FR-5601-N-45]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; GSA: Mr. Flavio Peres, General Services Administration, Office of Real Property Utilization and Disposal, 1800 F Street NW., Room 7040 Washington, DC 20405, (202) 501-0084; INTERIOR: Mr. Michael Wright, Acquisition & Property Management, Department of the Interior, 1801 Pennsylvania Ave. NW., 4th Floor, Washington, DC 20006: 202-254-5522 (These are not toll-free numbers).

Dated: November 8, 2012.
Ann Marie Oliva,
Deputy Assistant Secretary for Special Needs (Acting).

TITLE V, FEDERAL SURPLUS PROPERTY PROGRAM FEDERAL REGISTER REPORT FOR 11/16/2012

Suitable/Available Properties

Building

Mississippi

Tract 102-12A

516 ½ South Canal St.

Natchez MS 39120

Landholding Agency: Interior

Property Number: 61201240022

Status: Unutilized

Comments: off-site removal only; 2 floors; garage apt.; 240 mons. vacant; staircase not safe to use; entire bldg. needs to be gutted; asbestos identified; contact Interior for info. on accessibility/removal

Tract 102-11B

516 South Canal St.

Natchez MS 39120

Landholding Agency: Interior

Property Number: 61201240023

Status: Unutilized

Directions: Natchez Nat'l Historical Park

Comments: Off-site removal only; 2,522 sf.; workshop; 24 mons. vacant; missing siding, part of roof & all windows; contact Interior for info. on accessibility/removal

Tract 102-11A

516 South Canal St.

Natchez MS 39120

Landholding Agency: Interior

Property Number: 61201240027

Status: Unutilized

Directions: Natchez Nat'l Historic Park

Comments: Off-site removal only; 1,617 sf.; vacant 24 mons.; very poor conditions; no roof, exterior siding or windows; contact Interior for info. on accessibility/removal

Nebraska

Hummel Park Radio Station

11808 John Pershing Dr.

Omaha NE 68112

Landholding Agency: GSA

Property Number: 54201240005

Status: Surplus

GSA Number: 7-D-NE-0536

Comments: Bldg. 1,040 sf.; sits on 4.87 acres +\−; support for antenna operations; good conditions

North Carolina

Tract 01-106

129 Green Acres Lane

Greensboro NC 27410

Landholding Agency: Interior

Property Number: 61201240015

Status: Unutilized

Directions: Guilford Courthouse Nat'l Military Park

Comments: Off-site removal only; 1,647 sf.; 24 mons. vacant; erosion on structure; rapidly worsening

Tract 01-134

121 Green Acres Lane

Greensboro NC 27410

Landholding Agency: Interior

Property Number: 61201240016

Status: Unutilized

Directions: Guilford Courthouse Nat'l Military Park

Comments: Off-site removal only; 1,385 sf.; 72 mons. vacant; erosion on structure; rapidly worsening; lead/asbestos identified

Tract 01-141

119 British Lakes Dr.

Greensboro NC 27410

Landholding Agency: Interior

Property Number: 61201240017

Status: Unutilized

Directions: Guilford Courthouse Nat'l Military Park

Comments: Off-site removal only; 988 sf.; 53 mons. vacant; extensive deterioration

Tract 01-144 A

3500 Battleground Ave.

Greensboro NC 27410

Landholding Agency: Interior

Property Number: 61201240018

Status: Unutilized

Directions: Guilford Courthouse Nat'l Military Park

Comments: Off-site removal only; 104 sf.; 53 mons. vacant; interior stripped out; conditions rapidly worsening; lead identified

Tract 01-144B

103 British Lakes Dr.

Greensboro NC 27410

Landholding Agency: Interior

Property Number: 61201240025

Status: Unutilized

Directions: Guilford Courthouse Nat'l Military Park

Comments: Off-site removal only; 630 sf.; extensive deterioration

Tract 01-162

107 British Lakes Dr.

Greensboro NC 27410

Landholding Agency: Interior

Property Number: 61201240026

Status: Unutilized

Directions: Guilford Courthouse Nat'l Military Park

Comments: Off-site removal only; 315 sf.; extensive deterioration; asbestos/lead identified; fuel leakage

Land

OREGON

BOR Land

Hyatt Lake Safe Property

Hyatt Reservoir Area

Ashland OR

Landholding Agency: Interior

Property Number: 61201240011

Status: Unutilized

Comments: 3.5 acres +/−; timberland; practical access along eastern side; remote mountain property; winter seasons access can be very difficult

Unsuitable Properties

Building

Alabama

Building 853

25 South LeMay

Maxwell AFB AL 36112

Landholding Agency: Air Force

Property Number: 18201240002

Status: Underutilized

Comments: Located on active military installation; public access denied & no alternative method to gain access w/out compromising nat'l security

Reasons: Secured Area

Georgia

Tract 102-10; Water Pump House

2316 Akers Dr.

Atlanta GA 30339

Landholding Agency: Interior

Property Number: 61201240012

Status: Unutilized

Directions: Chattahoochee River Nat'l Recreation Area

Comments: Documented deficiencies; bldg. collapsing; 50% of roof missing; removal will most likely result in complete collapse

Reasons: Extensive deterioration

Tract 102-10; Ranger House Barn

2361 Akers Dr.

Atlanta GA 30339

Landholding Agency: Interior

Property Number: 61201240013

Status: Unutilized

Directions: Chattahoochee River Nat'l Recreation Area

Comments: Documented deficiencies; 50% of roof missing; trees fallen into bldg.—destroying the structural foundation; removal will most likely result in complete collapse

Reasons: Extensive deterioration

Tract 102-10; Ranger Oper. Bldg

2361 Akers Dr.

Atlanta GA 30339

Landholding Agency: Interior

Property Number: 61201240014

Status: Unutilized

Directions: Chattahoochee River Nat'l Recreation Area

Comments: Documented deficiencies; bldg. collapsing; 50% of roof missing; removal will most likely result in complete collapse

Reasons: Extensive deterioration

Idaho

Rural Parcels

Bureau of Reclamation

Burley ID 83318

Landholding Agency: GSA

Property Number: 54201240007

Status: Excess

GSA Number: 9-I-ID-0581

Comments: Parcels are landlocked btw. privately-owned properties where access would be denied to access the parcels; property prone to flooding; has not been corrected/contained

Reasons: Floodway, Not accessible by road

Mississippi

Tract 102-20B

24 Green St.

Natchez MS 39120

Landholding Agency: Interior

Property Number: 61201240019

Status: Unutilized

Directions: Natchez Nat'l Historical Park

Comments: Documented deficiencies; roof sagging; large tree has grown within structure; severe decay

Reasons: Extensive deterioration

Tract 102-12C

2 Rumble St.

Natchez MS 39120

Landholding Agency: Interior

Property Number: 61201240020

Status: Unutilized

Directions: Natchez Nat'l Historical Park

Comments: Documented deficiencies; roof has large holes/partially collapse; structure has severe dry rot; removal will most likely result in complete collapse

Reasons: Extensive deterioration

Tract 102-12B

1 Rumble St.

Natchez MS 39120

Landholding Agency: Interior

Property Number: 61201240021

Status: Unutilized

Directions: Natchez Nat'l Historical Park

Comments: Documented deficiencies; roof has large holes/partially collapse; structure has severe dry rot; removal will most likely result in completely collapse

Reasons: Extensive deterioration

Tract 102-09

512 South Canal St.

Natchez MS 39120

Landholding Agency: Interior

Property Number: 61201240024

Status: Unutilized

Directions: Natchez Nat'l Historical Park

Comments: Documented deficiencies; verge of collapsing; roof has partially collapsed; floors/walls are caved in; removal of property will most likely result in complete collapse

Reasons: Extensive deterioration

[FR Doc. 2012-27675 Filed 11-15-12; 8:45 am]

BILLING CODE 4210-67-P